DEPARTMENT OF LABOR

Employment and Training Administration

[TA-W-37,848]

Genicom Corporation Currently Known as IER, Inc., Temple, TX; Amended Certification Regarding Eligibility To Apply for Worker Adjustment Assistance

In accordance with section 223 of the Trade Act of 1974 (19 USC 2273) the Department of Labor issued a Certification of Eligibility to Apply for Worker Adjustment Assistance on August 18, 2000, applicable to workers of Genicom Corporation, Temple, Texas. The notice was published in the Federal Register on September 12, 2000 (65 FR 55050).

At the request of the company, the Department reviewed the certification for workers of the subject firm. New findings show that the Department inadvertently failed to identify the subject firm title name in its entirety. The Department is amending the certification determination to correctly identify the subject firm title name to read “Genicom Corporation, currently known as IER, Inc.”.

The amended notice applicable to TA-W-37,848 is hereby issued as follows:

All workers of Genicom Corporation, currently known as IER, Inc., Temple, Texas who became totally or partially separated from employment on or after June 16, 1999 through August 18, 2002 are eligible to apply for adjustment assistance under Section 223 of the Trade Act of 1974.

Signed at Washington, DC, this 18th day of April, 2001.
Linda G. Poole,
Certifying Officer, Office of Trade Adjustment Assistance.

[FR Doc. 01-11626 Filed 5-8-01; 8:45 am]

BILLING CODE 4510-30-M